DEPARTMENT OF HEALTH AND HUMAN SERVICES

Administration for Children and Families

45 CFR Parts 1355, 1356 and 1357

[RIN 0970-AA97]

Title IV-E Foster Care Eligibility Reviews and Child and Family Services State Plan Reviews

AGENCY: Administration on Children, Youth and Families (ACYF), Administration for Children and Families (ACHF), Department of Health and Human Services (DHHS).

ACTION: Final rule; correction.

SUMMARY: This document corrects the regulatory text of the final rule on Title IV-E Foster Care Eligibility Reviews and Child and Family Services State Plan Reviews published in the Federal Register on January 25, 2000 (65 FR 4019-4093).

DATES: Effective November 24, 2000.

FOR FURTHER INFORMATION CONTACT: Kathleen McHugh, Children's Bureau, 202-401-5789.

SUPPLEMENTARY INFORMATION:

Correction

In the final rule, 45 CFR Part 1355 through 1357, beginning on page 4019 in the issue of January 25, 2000, make the following correction. On page 4075 in the second column, instruction 2 currently says, “Section 1355.20 is amended by revising the definition of Foster care and by adding the following definitions in alphabetical order to read as follow:” It is corrected to read, “Section 1355.20 is amended by revising the definitions of Foster care and Foster family home and by adding the following definitions in alphabetical order to read as follows:”

The existing instruction calls for “adding” a definition, rather than revising the existing definition of a foster family home. This correction is necessary to avoid two conflicting definitions from being codified in the Code of Federal Regulations.

Dated: November 17, 2000.
Brian P. Burns,
Deputy Assistant Secretary for Information Resources and Management.

[FR Doc. 00-29990 Filed 11-22-00; 8:45 am]

BILLING CODE 4184-01-M